DEPARTMENT OF HEALTH AND HUMAN SERVICES

Health Resources and Services Administration

National Advisory Council on Nurse Education and Practice; Notice of Meeting

In accordance with section 10(a)(2) of the Federal Advisory Committee Act (Pub. L. 92-463), announcement is made of the following National Advisory Council on Nurse Education and Practice scheduled to meet during the month of April 2002.

Name: National Advisory Council on Nurse Education and Practice

Date and Time: April 11, 2002, 8:30 a.m.-5 p.m., April 12, 2002, 8:30 a.m.-3 p.m.

Place: Hotel Washington, Pennsylvania Avenue, NW., at 15th St., Washington, DC 20004

The meeting is open to the public.

Agenda: Department, Agency, Bureau, and Division administrative updates; introduction of new members; discussion of Council administrative procedures; and presentations of national and regional nursing workforce issues with special emphasis on nursing faculty shortage to be followed with workgroup sessions on nursing workforce and education for practice improvement to address strategies for intervention and recommendations impacting Title VIII legislation.

Anyone interested in obtaining a roster of members, minutes of the meeting, or other relevant information should write or contact Ms. Elaine G. Cohen, Executive Secretary, National Advisory Council on Nurse Education and Practice, Parklawn Building, Room 9-35, 5600 Fishers Lane, Rockville, Maryland 20857, telephone (301) 443-1405.

Dated: February 27, 2002.
Jane M. Harrison,
Director, Division of Policy Review and Coordination.

[FR Doc. 02-5161 Filed 3-4-02; 8:45 am]

BILLING CODE 4165-15-P